DEPARTMENT OF LABOR

Employment and Training Administration

[TA-W-71,724]

Contech US, LLC, Steel Products Group, Albemarle, NC; Notice of Termination of Investigation

Pursuant to Section 221 of the Trade Act of 1974, as amended, an investigation was initiated on July 17, 2009 in response to a petition filed by a company official on behalf of workers of Contech US, LLC, Steel Products Group, Albemarle, North Carolina.

The petitioner has requested that the petition be withdrawn. Consequently, the investigation has been terminated.

Signed at Washington, DC, this 27th day of July 2009.
Linda G. Poole,
Certifying Officer, Division of Trade Adjustment Assistance.

[FR Doc. E9-20472 Filed 8-25-09; 8:45 am]

BILLING CODE 4510-FN-P